DEPARTMENT OF COMMERCE

International Trade Administration

[A-533-901]

Organic Soybean Meal From India: Final Results of Antidumping Duty Administrative Review; 2023-2024

AGENCY: Enforcement and Compliance, International Trade Administration, Department of Commerce.

SUMMARY: The U.S. Department of Commerce (Commerce) determines that Tejawat Organic Foods, the sole producer/exporter subject to this administrative review, made sales of organic soybean meal (soybean meal) from India in the United States at prices below normal value (NV) during the period of review. The period of review (POR) is May 1, 2023, through April 30, 2024.

DATES: Applicable January 23, 2026.

FOR FURTHER INFORMATION CONTACT: Dan Alexander, AD/CVD Operations, Office II, Enforcement and Compliance, International Trade Administration, U.S. Department of Commerce, 1401 Constitution Avenue NW, Washington, DC 20230; telephone: (202) 482-4313.

SUPPLEMENTARY INFORMATION:

Background

On July 11, 2025, Commerce published in the Federal Register the Preliminary Results in this administrative review and invited interested parties to comment.¹

¹ See Organic Soybean Meal from India: Preliminary Results and Rescission, in Part, of Antidumping Duty Administrative Review; 2023-2024, 90 FR 30854 (July 11, 2025) (Preliminary Results), and accompanying Preliminary Decision Memorandum (PDM).

Due to the lapse in appropriations and Federal Government shutdown, on November 14, 2025, Commerce tolled all deadlines in administrative proceedings by 47 days,² and, due to a backlog of documents that were electronically filed via Enforcement and Compliance's Antidumping and Countervailing Duty Centralized Electronic Service System (ACCESS) during the Federal Government shutdown, on November 24, 2025, Commerce tolled all deadlines in administrative proceedings by an additional 21 days.³ Accordingly, the deadline for these final results is now January 15, 2026.

² See Memorandum, “Deadlines Affected by the Shutdown of the Federal Government,” dated November 14, 2025.

³ See Memorandum, “Tolling of all Case Deadlines,” dated November 24, 2025.

For a complete description of the events that followed the Preliminary Determination, see the Issues and Decision Memorandum.⁴ The Issues and Decision Memorandum is a public document and is on file electronically via ACCESS. ACCESS is available to registered users at https://access.trade.gov. In addition, a complete version of the Issues and Decision Memorandum can be accessed directly at https://access.trade/gov/public/FRNoticesListLayout.aspx.

⁴ See Memorandum, “Issues and Decision Memorandum for the Final Results in the Antidumping Duty Administrative Review of Organic Soybean Meal from India; 2023-2024,” dated concurrently with, and hereby adopted by, this notice (Issues and Decision Memorandum).

Commerce conducted this administrative review in accordance with section 751(a)(1)(B) of the Tariff Act of 1930, as amended (the Act).

Scope of the Investigation

The product covered by the Order is organic soybean meal from India.⁵ A complete description of the scope of the Order is contained in the Issues and Decision Memorandum.

⁵ See Organic Soybean Meal from India: Antidumping Duty Order, 87 FR 29737 (May 16, 2022).

Analysis of Comments Received

All issues raised in the case and rebuttal briefs in this administrative review are addressed in the Issues and Decision Memorandum. For a list of the issues raised by interested parties, see the appendix to this notice.

Changes Since the Preliminary Results

After a review of the record and comments received from interested parties, we made no changes to the Preliminary Results. For further discussion, see the Issues and Decision Memorandum.

Final Results of Review

As a result of this review, Commerce determines the following estimated weighted average dumping margin exists for the period May 1, 2023 through April 30, 2024:

Exporter/producer | Weighted- average dumping margin (percent)
Tejawat Organic Foods | 18.80

Disclosure

Normally, Commerce will disclose to the parties in a proceeding the calculations performed in connection with a final results within five days of any public announcement or, if there is no public announcement, within five days of the date of publication of the notice of final determination in the Federal Register, in accordance with 19 CFR 351.224(b). However, because Commerce continues to rely solely on the application of facts available with adverse inferences in accordance with sections 776(a) and (b) of the Act, for Tejawat, there are no calculations to disclose for these final results.

Assessment Rates

Commerce will determine, and U.S. Customs and Border Protection (CBP) shall assess, antidumping duties on all appropriate entries in this review, in accordance with section 751(a)(2)(C) the Act and 19 CFR 351.212(b)(1).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of the subject merchandise entered, or withdrawn from warehouse, for consumption on or after the date of publication of the final results of this administrative review, as provided by section 751(a)(2)(C) of the Act: (1) the cash deposit rate for Tejawat will be equal to the appropriate dumping margin established in the final results of this administrative review; (2) for merchandise exported by producers or exporters not covered in this review but covered in a prior completed segment of the proceeding, the cash deposit rate will continue to be the company-specific rate published in the completed segment for the most recent period; (3) if the exporter is not a firm covered in this review, a prior review, or the original less than fair value (LTFV) investigation, but the producer has been covered in a prior completed segment of this proceeding, then the cash deposit rate will be the rate established in the completed segment for the most recent period for the producer of the merchandise; and (4) the cash deposit rate for all other producers and exporters will continue to be 3.07 percent, the all-others rate established in the LTFV investigation.⁶ These cash deposit requirements, when imposed, shall remain in effect until further notice.

⁶ See Organic Soybean Meal from India: Final Affirmative Determination of Sales at Less Than Fair Value, 87 FR 16458 (March 23, 2022).

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice also serves as a final reminder to parties subject to an APO of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing these final results of administrative review in accordance with sections 751(a)(1) and 777(i) of the Act, and 19 CFR 351.221(b)(5).

Dated: January 15, 2026.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Discussion of the Issues

Comment 1: Whether Commerce Should Continue to Apply Total AFA to Tejawat

Comment 2: Whether Commerce Should Apply a Higher AFA Rate to Tejawat

V. Recommendation

[FR Doc. 2026-01218 Filed 1-22-26; 8:45 am]

BILLING CODE 3510-DS-P